NUCLEAR REGULATORY COMMISSION

[NRC-2017-0208]

Biweekly Notice; Applications and Amendments to Facility Operating Licenses and Combined Licenses Involving No Significant Hazards Considerations

AGENCY: Nuclear Regulatory Commission.

ACTION: Biweekly notice.

SUMMARY: Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from September 26, 2017, to October 06, 2017. The last biweekly notice was published on September 25, 2017.

DATES: Comments must be filed by November 24, 2017. A request for a hearing must be filed by December 26, 2017.

ADDRESSES: You may submit comments by any of the following methods:

• Federal Rulemaking Web site: Go to http://www.regulations.gov and search for Docket ID NRC-2017-0208. Address questions about NRC dockets to Carol Gallagher; telephone: 301-415-3463; email: Carol.Gallagher@nrc.gov. For technical questions, contact the individual listed in the FOR FURTHER INFORMATION CONTACT section of this document.

• Mail comments to: May Ma, Office of Administration, Mail Stop: OWFN-2-A13, U.S. Nuclear Regulatory Commission, Washington, DC 20555-0001.

For additional direction on obtaining information and submitting comments, see “Obtaining Information and Submitting Comments” in the SUPPLEMENTARY INFORMATION section of this document.

FOR FURTHER INFORMATION CONTACT: Kay Goldstein, Office of Nuclear Reactor Regulation, U.S. Nuclear Regulatory Commission, Washington, DC 20555-0001; telephone: 301-415-1506, email: Kay.Goldstein@nrc.gov.

SUPPLEMENTARY INFORMATION:

I. Obtaining Information and Submitting Comments

A. Obtaining Information

Please refer to Docket ID NRC-2017-0208 facility name, unit number(s), plant docket number, application date, and subject when contacting the NRC about the availability of information for this action. You may obtain publicly-available information related to this action by any of the following methods:

• Federal Rulemaking Web site: Go to http://www.regulations.gov and search for Docket ID NRC-2017-0208.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2017-0208, facility name, unit number(s), plant docket number, application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's Web site at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or federally recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562, August 3, 2012). The E-Filing process requires participants to submit and serve all adjudicatory documents over the internet, or in some cases to mail copies on electronic storage media. Detailed guidance on making electronic submissions may be found in the Guidance for Electronic Submissions to the NRC and on the NRC Web site at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. Once a participant has obtained a digital ID certificate and a docket has been created, the participant can then submit adjudicatory documents. Submissions must be in Portable Document Format (PDF). Additional guidance on PDF submissions is available on the NRC's public Web site at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public Web site at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Entergy Operations, Inc., Docket No. 50-313, Arkansas Nuclear One, Unit 1, Pope County, Arkansas

Date of amendment request: August 14, 2017. A publicly-available version is in ADAMS under Accession No. ML17226A207.

Description of amendment request: The amendment would add Technical Specification (TS) requirements for unavailable barriers by adding Limiting Condition for Operation (LCO) 3.0.9, consistent with NRC-approved Technical Specification Task Force (TSTF) Improved Standard Technical Specifications Change Traveler TSTF-427, Revision 2, “Allowance for Non-Technical Specification Barrier Degradation on Supported System Operability.” The Notice of Availability of this TS improvement and the model application were published in the Federal Register on October 3, 2006 (71 FR 58444), as part of the Consolidated Line Item Improvement Process (CLIIP).

Basis for proposed no significant hazards consideration determination: As required by 10 CFR 50.91(a), the licensee affirmed the applicability of the model no significant hazards consideration determination, which is presented below:

Criterion 1—The Proposed Change Does Not Involve a Significant Increase in the Probability or Consequences of an Accident Previously Evaluated.

The proposed change allows a delay time for entering a supported system technical specification (TS) when the inoperability is due solely to an unavailable barrier if risk is assessed and managed. The postulated initiating events which may require a functional barrier are limited to those with low frequencies of occurrence, and the overall TS system safety function would still be available for the majority of anticipated challenges. Therefore, the probability of an accident previously evaluated is not significantly increased, if at all. The consequences of an accident while relying on the allowance provided by proposed LCO 3.0.9 are no different than the consequences of an accident while relying on the TS required actions in effect without the allowance provided by proposed LCO 3.0.9. Therefore, the consequences of an accident previously evaluated are not significantly affected by this change. The addition of a requirement to assess and manage the risk introduced by this change will further minimize possible concerns. Therefore, this change does not involve a significant increase in the probability or consequences of an accident previously evaluated.

Criterion 2—The Proposed Change Does Not Create the Possibility of a New or Different Kind of Accident from any Previously Evaluated.

The proposed change does not involve a physical alteration of the plant (no new or different type of equipment will be installed). Allowing delay times for entering supported system TS when inoperability is due solely to an unavailable barrier, if risk is assessed and managed, will not introduce new failure modes or effects and will not, in the absence of other unrelated failures, lead to an accident whose consequences exceed the consequences of accidents previously evaluated. The addition of a requirement to assess and manage the risk introduced by this change will further minimize possible concerns. Thus, this change does not create the possibility of a new or different kind of accident from an accident previously evaluated.

Criterion 3—The Proposed Change Does Not Involve a Significant Reduction in the Margin of Safety.

The proposed change allows a delay time for entering a supported system TS when the inoperability is due solely to an unavailable barrier, if risk is assessed and managed. The postulated initiating events which may require a functional barrier are limited to those with low frequencies of occurrence, and the overall TS system safety function would still be available for the majority of anticipated challenges. The risk impact of the proposed TS changes was assessed following the three-tiered approach recommended in RG [Regulatory Guide] 1.177. A bounding risk assessment was performed to justify the proposed TS changes. This application of LCO 3.0.9 is predicated upon the licensee's performance of a risk assessment and the management of plant risk. The net change to the margin of safety is insignificant as indicated by the anticipated low levels of associated risk (ICCDP [incremental conditional core damage probability] and ICLERP [incremental conditional large early release probability]) as shown in Table 1 of Section 3.1.1 in the Safety Evaluation. Therefore, this change does not involve a significant reduction in a margin of safety.

The NRC staff has reviewed the above analysis and, based on this review, it appears that the three standards of 10 CFR 50.92(c) are satisfied. Therefore, the NRC staff proposes to determine that the amendment request involves no significant hazards consideration.

Attorney for licensee: Ms. Anna Vinson Jones, Senior Counsel, Entergy Services, Inc., 101 Constitution Avenue NW., Suite 200 East, Washington, DC 20001.

NRC Branch Chief: Robert J. Pascarelli.

Entergy Operations, Inc., Docket No. 50-368, Arkansas Nuclear One, Unit 2, Pope County, Arkansas

Date of amendment request: August 14, 2017. A publicly-available version is in ADAMS under Accession No. ML17226A210.

Description of amendment request: The amendment would add Technical Specification (TS) requirements for unavailable barriers by adding Limiting Condition for Operation (LCO) 3.0.9, consistent with NRC-approved Technical Specification Task Force (TSTF) Improved Standard Technical Specifications Change Traveler TSTF-427, Revision 2, “Allowance for Non-Technical Specification Barrier Degradation on Supported System Operability.” The Notice of Availability of this TS improvement and the model application were published in the Federal Register on October 3, 2006 (71 FR 58444), as part of the Consolidated Line Item Improvement Process (CLIIP).

Basis for proposed no significant hazards consideration determination: As required by 10 CFR 50.91(a), the licensee affirmed the applicability of the model no significant hazards consideration determination, which is presented below:

Criterion 1—The Proposed Change Does Not Involve a Significant Increase in the Probability or Consequences of an Accident Previously Evaluated.

The proposed change allows a delay time for entering a supported system technical specification (TS) when the inoperability is due solely to an unavailable barrier if risk is assessed and managed. The postulated initiating events which may require a functional barrier are limited to those with low frequencies of occurrence, and the overall TS system safety function would still be available for the majority of anticipated challenges. Therefore, the probability of an accident previously evaluated is not significantly increased, if at all. The consequences of an accident while relying on the allowance provided by proposed LCO 3.0.9 are no different than the consequences of an accident while relying on the TS required actions in effect without the allowance provided by proposed LCO 3.0.9. Therefore, the consequences of an accident previously evaluated are not significantly affected by this change. The addition of a requirement to assess and manage the risk introduced by this change will further minimize possible concerns. Therefore, this change does not involve a significant increase in the probability or consequences of an accident previously evaluated.

Criterion 2—The Proposed Change Does Not Create the Possibility of a New or Different Kind of Accident from any Previously Evaluated.

The proposed change does not involve a physical alteration of the plant (no new or different type of equipment will be installed). Allowing delay times for entering supported system TS when inoperability is due solely to an unavailable barrier, if risk is assessed and managed, will not introduce new failure modes or effects and will not, in the absence of other unrelated failures, lead to an accident whose consequences exceed the consequences of accidents previously evaluated. The addition of a requirement to assess and manage the risk introduced by this change will further minimize possible concerns. Thus, this change does not create the possibility of a new or different kind of accident from an accident previously evaluated.

Criterion 3—The Proposed Change Does Not Involve a Significant Reduction in the Margin of Safety.

The proposed change allows a delay time for entering a supported system TS when the inoperability is due solely to an unavailable barrier, if risk is assessed and managed. The postulated initiating events which may require a functional barrier are limited to those with low frequencies of occurrence, and the overall TS system safety function would still be available for the majority of anticipated challenges. The risk impact of the proposed TS changes was assessed following the three-tiered approach recommended in RG [Regulatory Guide] 1.177. A bounding risk assessment was performed to justify the proposed TS changes. This application of LCO 3.0.9 is predicated upon the licensee's performance of a risk assessment and the management of plant risk. The net change to the margin of safety is insignificant as indicated by the anticipated low levels of associated risk (ICCDP [incremental conditional core damage probability] and ICLERP [incremental conditional large early release probability]) as shown in Table 1 of Section 3.1.1 in the Safety Evaluation. Therefore, this change does not involve a significant reduction in a margin of safety.

The NRC staff has reviewed the above analysis and, based on this review, it appears that the three standards of 10 CFR 50.92(c) are satisfied. Therefore, the NRC staff proposes to determine that the amendment request involves no significant hazards consideration.

Attorney for licensee: Ms. Anna Vinson Jones, Senior Counsel, Entergy Services, Inc., 101 Constitution Avenue NW., Suite 200 East, Washington, DC 20001.

NRC Branch Chief: Robert J. Pascarelli.

Exelon Generation Company, LLC, Docket Nos. 50-219 and 72-15, Oyster Creek Nuclear Generating Station, Ocean County, New Jersey

Date of amendment request: August 29, 2017. A publicly-available version is available in ADAMS under Accession No. ML17241A065.

Description of amendment request: The amendment would revise the Oyster Creek Nuclear Generating Station site emergency plan (SEP) and emergency action level (EAL) scheme for the permanently defueled condition.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes to the emergency plan and EAL scheme do not impact the function of plant structures, systems, or components (SSCs). The proposed changes do not affect accident initiators or precursors, nor does it alter design assumptions. The proposed changes do not prevent the ability of the on-shift staff and emergency response organization (ERO) to perform their intended functions to mitigate the consequences of any accident or event that will be credible in the permanently defueled condition.

The probability of occurrence of previously evaluated accidents is not increased, since most previously analyzed accidents can no longer occur and the probability of the few remaining credible accidents are unaffected by the proposed amendment.

Therefore, the proposed change does not involve a significant increase in the probability or consequences of an accident previously evaluated.

2. Does the proposed amendment create the possibility of a new or different kind of accident from any accident previously evaluated?

Response: No.

The proposed changes reduce the scope of the SEP and EAL scheme commensurate with the hazards associated with a permanently shutdown and defueled facility. The proposed changes do not involve installation of new equipment or modification of existing equipment, so that no new equipment failure modes are introduced. In addition, the proposed changes do not result in a change to the way that the equipment or facility is operated so that no new or different kinds of accident initiators are created.

Therefore, the proposed change does not create the possibility of a new or different kind of accident from any accident previously evaluated.

3. Does the proposed amendment involve a significant reduction in a margin of safety?

Response: No.

Margin of safety is associated with confidence in the ability of the fission product barriers (i.e., fuel cladding, reactor coolant system pressure boundary, and containment structure) to limit the level of radiation dose to the public. The proposed changes are associated with the SEP and EAL scheme and do not impact operation of the plant or its response to transients or accidents. The change does not affect the Technical Specifications. The proposed changes do not involve a change in the method of plant operation, and no accident analyses will be affected by the proposed changes. Safety analysis acceptance criteria are not affected by the proposed changes. The Post Defueled Emergency Plan (PDEP) will continue to provide the necessary response staff with the appropriate guidance to protect the health and safety of the public.

Therefore, the proposed change does not involve a significant reduction in the margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: Douglas A. Broaddus.

Nebraska Public Power District, Docket No. 50-298, Cooper Nuclear Station, Nemaha County, Nebraska

Date of amendment request: August 7, 2017. A publicly-available version is in ADAMS under Accession No. ML17228A042.

Description of amendment request: The proposed amendment would replace existing Technical Specification (TS) requirements related to “operations with a potential for draining the reactor vessel” (OPDRVs) with new requirements on reactor pressure vessel (RPV) water inventory control (WIC) to protect Safety Limit 2.1.1.3. Safety Limit 2.1.1.3 requires RPV water level to be greater than the top of active irradiated fuel. The proposed changes are based on TS Task Force (TSTF) Traveler TSTF-542, Revision 2, “Reactor Pressure Vessel Water Inventory Control.”

Basis for proposed no significant hazards consideration determination: As required by 10 CFR 50.91(a), the licensee has provided its analysis of the issue of no significant hazards consideration, which is presented below:

1. Does the proposed amendment involve a significant increase in the probability or consequences of an accident previously evaluated?

Response: No.

The proposed change replaces existing TS requirements related to OPDRVs with new requirements on RPV WIC that will protect Safety Limit 2.1.1.3. Draining of RPV water inventory in Mode 4 (i.e., cold shutdown) and Mode 5 (i.e., refueling) is not an accident previously evaluated and, therefore, replacing the existing TS controls to prevent or mitigate such an event with a new set of controls has no effect on any accident previously evaluated. RPV water inventory control in Mode 4 or Mode 5 is not an initiator of any accident previously evaluated. The existing OPDRV controls or the proposed RPV WIC controls are not mitigating actions assumed in any accident previously evaluated.

The proposed change reduces the probability of an unexpected draining event (which is not a previously evaluated accident) by imposing new requirements on the limiting time in which an unexpected draining event could result in the reactor vessel water level dropping to the top of the active fuel (TAF). These controls require cognizance of the plant configuration and control of configurations with unacceptably short drain times. These requirements reduce the probability of an unexpected draining event. The current TS requirements are only mitigating actions and impose no requirements that reduce the probability of an unexpected draining event.

The proposed change reduces the consequences of an unexpected draining event (which is not a previously evaluated accident) by requiring an Emergency Core Cooling System (ECCS) subsystem to be operable at all times in Modes 4 and 5. The current TS requirements do not require any water injection systems, ECCS or otherwise, to be operable in certain conditions in Mode 5. The change in requirement from two ECCS subsystems to one ECCS subsystem in Modes 4 and 5 does not significantly affect the consequences of an unexpected draining event because the proposed Actions ensure equipment is available within the limiting drain time that is as capable of mitigating the event as the current requirements. The proposed controls provide escalating compensatory measures to be established as calculated drain times decrease, such as verification of a second method of water injection and additional confirmations that containment and/or filtration would be available if needed.

The proposed change reduces or eliminates some requirements that were determined to be unnecessary to manage the consequences of an unexpected draining event, such as automatic initiation of an ECCS subsystem and control room ventilation. These changes do not affect the consequences of any accident previously evaluated since a draining event in Modes 4 and 5 is not a previously evaluated accident and the requirements are not needed to adequately respond to a draining event.

Therefore, the proposed change does not involve a significant increase in the probability or consequences of an accident previously evaluated.

2. Does the proposed amendment create the possibility of a new or different kind of accident from any accident previously evaluated?

Response: No.

The proposed change replaces existing TS requirements related to OPDRVs with new requirements on RPV WIC that will protect Safety Limit 2.1.1.3. The proposed change will not alter the design function of the equipment involved. Under the proposed change, some systems that are currently required to be operable during OPDRVs would be required to be available within the limiting drain time or to be in service depending on the limiting drain time. Should those systems be unable to be placed into service, the consequences are no different than if those systems were unable to perform their function under the current TS requirements.

The event of concern under the current requirements and the proposed change is an unexpected draining event. The proposed change does not create new failure mechanisms, malfunctions, or accident initiators that would cause a draining event or a new or different kind of accident not previously evaluated or included in the design and licensing bases.

Therefore, the proposed change does not create the possibility of a new or different kind of accident from any previously evaluated.

3. Does the proposed amendment involve a significant reduction in a margin of safety?

Response: No.

The proposed change replaces existing TS requirements related to OPDRVs with new requirements on RPV WIC. The current requirements do not have a stated safety basis and no margin of safety is established in the licensing basis. The safety basis for the new requirements is to protect Safety Limit 2.1.1.3. New requirements are added to determine the limiting time in which the RPV water inventory could drain to the top of the fuel in the reactor vessel should an unexpected draining event occur. Plant configurations that could result in lowering the RPV water level to the TAF within one hour are now prohibited. New escalating compensatory measures based on the limiting drain time replace the current controls. The proposed TS establish a safety margin by providing defense-in-depth to ensure that the Safety Limit is protected and to protect the public health and safety. While some less restrictive requirements are proposed for plant configurations with long calculated drain times, the overall effect of the change is to improve plant safety and to add safety margin.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. John C. McClure, Nebraska Public Power District, Post Office Box 499, Columbus, NE 68602-0499.

NRC Branch Chief: Robert J. Pascarelli.

Southern Nuclear Operating Company, Docket Nos. 52-025 and 52-026, Vogtle Electric Generating Plant, Units 3 and 4, Burke County, Georgia

Date of amendment request: August 30, 2017. A publicly-available version is in ADAMS under Accession No. ML17242A279.

Description of amendment request: The requested amendment proposes changes to combined license (COL) Appendix C (and plant-specific Tier 1) Table 2.6.3-3 to revise Inspections, Tests, Analyses and Acceptance Criteria (ITAAC) involving the Class 1E dc and uninterruptible power supply system (IDS). The proposed COL Appendix C (and plant-specific design control document (DCD) Tier 1) changes require additional changes to corresponding Tier 2 information in the Updated Final Safety Analysis Report (UFSAR) Chapter 8, “Electric Power.” Because this proposed change requires a departure from Tier 1 information in the Westinghouse Electric Company's AP1000 DCD, the licensee also requested an exemption from the requirements of the generic DCD Tier 1 in accordance with 10 CFR 52.63(b)(1).

Basis for proposed no significant hazards consideration determination: As required by 10 CFR 50.91(a), the licensee has provided its analysis of the issue of no significant hazards consideration, which is presented below:

1. Does the proposed amendment involve a significant increase in the probability or consequences of an accident previously evaluated?

Response: No.

The proposed change revises COL Appendix C, plant‐specific Tier 1, and UFSAR information concerning design commitments and ITAAC related to IDS functionality. The proposed change supports verification of the acceptability of the voltage transfer across applicable IDS circuits supplying power to Class 1E MOVs.

This change does not affect the design details of the IDS, including the Class 1E battery banks and the MOVs that they support. The intent of Tier 1 Subsection 2.6.3, Design Commitment 4.i); COL Appendix C Table 2.6.3‐3, item 4.i); and UFSAR Subsection 8.3.2.5.9 are to verify that IDS can deliver adequate voltage to the motor terminals of Class 1E powered MOVs under design basis conditions. Therefore, the proposed changes meet the intent of the ITAAC and do not change the design or functionality of any safety‐related structure, system or component (SSC). The proposed change does not affect the design functions of plant systems. The proposed change does not affect plant electrical systems, and does not affect the support, design, or operation of mechanical and fluid systems required to mitigate the consequences of an accident. There is no change to plant systems or the response of systems to postulated accident conditions. There is no change to the predicted radioactive releases due to postulated accident conditions. The plant response to previously evaluated accidents or external events is not affected, nor do the proposed changes create any new accident precursors. Therefore, the requested amendment does not involve a significant increase in the probability or consequences of an accident previously evaluated.

2. Does the proposed amendment create the possibility of a new or different kind of accident from any accident previously evaluated?

Response: No.

The proposed change revises COL Appendix C, plant‐specific Tier 1, and UFSAR information concerning design commitments and ITAAC related to IDS functionality. The proposed change supports verification of the acceptability of the voltage transfer across applicable IDS circuits supplying power to Class 1E MOVs.

The intent of Tier 1 Subsection 2.6.3, Design Commitment 4.i); COL Appendix C Table 2.6.3‐3, item 4.i) and UFSAR Subsection 8.3.2.5.9 are to verify that IDS can deliver adequate voltage to the motor terminals of Class 1E powered MOVs under design basis conditions. The proposed changes do not change the design or functionality of safety‐related SSCs. The proposed change does not affect plant electrical systems, and does not affect the design function, support, design, or operation of mechanical and fluid systems. The proposed change does not result in a new failure mechanism or introduce any new accident precursors. No design function described in the UFSAR is affected by the proposed changes. Therefore, the requested amendment does not create the possibility of a new or different kind of accident from any accident previously evaluated.

3. Does the proposed amendment involve a significant reduction in a margin of safety?

Response: No.

The proposed change revises COL Appendix C, plant‐specific Tier 1, and UFSAR information concerning design commitments and ITAAC related to IDS functionality. The proposed change supports verification of the acceptability of the voltage transfer across applicable IDS circuits supplying power to Class 1E MOVs.

The intent of Tier 1 Subsection 2.6.3, Design Commitment 4.i); COL Appendix C Table 2.6.3‐3, item 4.i) and UFSAR Subsection 8.3.2.5.9 are to verify that under design basis conditions IDS can deliver adequate voltage to the motor terminals of Class 1E powered MOVs. Therefore, the proposed changes meet the intent of the ITAAC and do not reduce a margin of safety. No safety analysis or design basis acceptance limit/criterion is challenged or exceeded by the proposed changes, and no margin of safety is reduced.

Therefore, the requested amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Jennifer Dixon-Herrity.

Southern Nuclear Operating Company, Docket Nos. 52-025 and 52-026, Vogtle Electric Generating Plant, Units 3 and 4, Burke County, Georgia

Date of amendment request: August 31, 2017. A publicly-available version is in ADAMS under Accession No. ML17243A351.

Description of amendment request: The amendment request proposes to depart from Tier 2 information in the Updated Final Safety Analysis Report (which includes the plant-specific Design Control Document (DCD) Tier 2 information) and involves related changes to plant-specific Tier 1 (and associated Combined License (COL) Appendix C) information, and COL Appendix A Technical Specifications. Specifically, the requested amendment proposes changes to the plant-specific nuclear island non-radioactive ventilation system (VBS), the main control room emergency habitability system (VES), and post-accident operator dose analyses. These changes are proposed to maintain compliance with General Design Criterion (GDC)-19, which requires that main control room personnel dose does not exceed 5 roentgen equivalent man total effective dose equivalent for the duration of a design basis accident. Because this proposed change requires a departure from Tier 1 information in the Westinghouse Electric Company's AP1000 DCD, the licensee also requested an exemption from the requirements of the Generic DCD Tier 1 in accordance with 10 CFR 52.63(b)(1).

Basis for proposed no significant hazards consideration determination: As required by 10 CFR 50.91(a), the licensee has provided its analysis of the issue of no significant hazards consideration, which is presented below:

1. Does the proposed amendment involve a significant increase in the probability or consequences of an accident previously evaluated?

Response: No.

The AP1000 accident analyses describe various design basis accidents to demonstrate compliance with the acceptance criteria for these events. The acceptance criteria for the various accidents are based on meeting the relevant regulations, general design criteria, the Standard Review Plan, and are a function of the anticipated frequency of occurrence of the event and potential radiological consequences to the public. As such, each design-basis event is categorized accordingly based on these considerations. The proposed changes do not affect the accident frequency designations as previously evaluated. Instead, the changes ensure that the control room shielding design will meet the operator habitability requirements under such accidents. Further, the proposed changes do not involve any components that could initiate an event by means of component or system failure. The changes do not alter design features available during normal operation or anticipated operational occurrences. The changes do not adversely impact accident source term parameters or affect any release paths used in the safety analyses, which could increase radiological dose consequences. The proposed changes would not increase the consequences of an accident previously evaluated in the plant-specific Design Control Document (DCD). Offsite doses are not adversely affected by the changes proposed.

Therefore, the proposed amendment does not involve a significant increase in the probability or consequences of an accident previously evaluated.

2. Does the proposed amendment create the possibility of a new or different kind of accident from any accident previously evaluated?

Response: No.

The proposed changes would not introduce a new failure mode, fault, or sequence of events that could result in a radioactive material release. The proposed changes do not alter the design, configuration, or method of operation of the plant beyond standard functional capabilities of the equipment. Instead, the changes modify the manner in which the radiological consequences of the existing design basis accidents are evaluated.

Therefore, the proposed amendment does not create the possibility of a new or different kind of accident from any accident previously evaluated.

3. Does the proposed amendment involve a significant reduction in a margin of safety?

Response: No.

Safety margins are applied at many levels to the design and licensing basis functions and to the controlling values of parameters to account for various uncertainties and to avoid exceeding regulatory or licensing limits. The proposed changes ultimately result in dose values that meet 10 CFR part 50, Appendix A, General Design Criterion (GDC)-19. The proposed changes do not adversely affect any safety-related equipment or other design functions, design code compliance, design analysis, safety analysis input or result, or design/safety margin. No safety analysis or design basis acceptance limit/criterion is challenged or exceeded by the proposed changes.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North, Birmingham, AL 35203-2015.

NRC Branch Chief: Jennifer Dixon-Herrity.

Southern Nuclear Operating Company, Docket Nos. 52-025 and 52-026, Vogtle Electric Generating Plant, Units 3 and 4, Burke County, Georgia

Date of amendment request: September 22, 2017. A publicly-available version is in ADAMS under Accession No. ML17265A822.

Description of amendment request: The requested amendment proposes changes to combined license Appendix A, Technical Specifications (TS). The proposed changes add new TS 3.1.10, Rod Withdrawal Test Exception—MODE 5, and modify TS Limiting Condition for Operation (LCO) 3.0.7, to allow rod movement and rod drop time testing under cold conditions (MODE 5). Additionally, the LCO Applicability of TS 3.4.8, Minimum Reactor Coolant System (RCS) Flow, is revised to reflect its safety analysis basis.

Basis for proposed no significant hazards consideration determination: As required by 10 CFR 50.91(a), the licensee has provided its analysis of the issue of no significant hazards consideration, which is presented below:

1. Does the proposed amendment involve a significant increase in the probability or consequences of an accident previously evaluated?

Response: No.

There are no design changes associated with the proposed amendment. All design, material, and construction standards that were applicable prior to this amendment request will continue to be applicable.

The Plant Control System (PLS), Reactor Coolant System (RCS), Chemical and Volume Control System (CVS), and Protection and Safety Monitoring System (PMS) will continue to function in a manner consistent with the existing plant design basis. There will be no changes to the PLS, RCS, CVS, or PMS operating limits.

The proposed amendment will not affect accident initiators or precursors or alter the design, conditions, and configuration of the facility, or the manner in which the plant is operated and maintained, with respect to such initiators or precursors.

The proposed amendment will preclude reactor core criticality during the use of new TS 3.1.10. The proposed amendment will not alter the ability of structures, systems, and components (SSCs) to perform their specified safety functions.

Accident analysis acceptance criteria will continue to be met with the proposed changes. The proposed changes will not affect the source term, containment isolation, or radiological release assumptions used in evaluating the radiological consequences of any accident previously evaluated. The proposed changes will not alter any assumptions or change any mitigation actions in the radiological consequence evaluations in the Updated Final Safety Analysis Report (UFSAR).

The applicable radiological dose acceptance criteria will continue to be met.

The proposed amendment adds a new test exception TS 3.1.10, revises TS LCO 3.0.7 to reference the new TS 3.1.10, and modifies the LCO Applicability of TS 3.4.8 to be consistent with the purpose of that TS as an initial condition of the inadvertent boron dilution analyses, but does not physically alter any safety-related systems.

Therefore, the proposed amendment does not involve a significant increase in the probability or consequences of an accident previously evaluated.

2. Does the proposed amendment create the possibility of a new or different kind of accident from any accident previously evaluated?

Response: No.

With respect to any new or different kind of accident, there are no proposed design changes nor are there any changes in the method by which any safety-related plant SSC performs its specified safety function. The proposed change will not affect the normal method of plant operation or change any operating parameters. No equipment performance requirements will be affected. The proposed change will not alter any assumptions made in the safety analyses.

The proposed amendment adds a new test exception TS 3.1.10, revises TS LCO 3.0.7 to reference the new TS 3.1.10, and modifies the LCO Applicability of TS 3.4.8 to be consistent with the purpose of that TS as an initial condition of the inadvertent boron dilution analyses. The proposed change does not involve a physical modification of the plant.

No new accident scenarios, transient precursors, failure mechanisms, or limiting single failures will be introduced as a result of this amendment. There will be no adverse effect or challenges imposed on any safety-related system as a result of this amendment.

Therefore, the proposed amendment does not create the possibility of a new or different accident from any accident previously evaluated.

3. Does the proposed amendment involve a significant reduction in a margin of safety?

Response: No.

There will be no effect on those plant systems necessary to effect the accomplishment of protection functions. No instrument setpoints or system response times are affected. None of the acceptance criteria for any accident analysis will be changed. The proposed amendment will have no impact on the radiological consequences of a design basis accident.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Jennifer Dixon-Herrity.

Southern Nuclear Operating Company, Docket Nos. 52-025 and 52-026, Vogtle Electric Generating Plant, Units 3 and 4, Burke County, Georgia

Date of amendment request: September 22, 2017. A publicly-available version is in ADAMS under Accession No. ML17265A787.

Description of amendment request: The requested amendment proposes to revise Tier 2* information in the Updated Final Safety Analysis Report (UFSAR), specifically to modify the licensing requirements for the American Society of Mechanical Engineers (ASME) Class 1 Piping component analysis from limited to design by rule evaluation as described in ASME Section III, NB-3600 to include the ability to perform design by analysis evaluations, as described in ASME Section III, NB-3200.

Basis for proposed no significant hazards consideration determination: As required by 10 CFR 50.91(a), the licensee has provided its analysis of the issue of no significant hazards consideration, which is presented below with Nuclear Regulatory Commission (NRC) staff's edits in square brackets:

1. Does the proposed amendment involve a significant increase in the probability or consequences of an accident previously evaluated?

Response: No.

The proposed change describes how the ASME Class 1 piping components are evaluated for stress and functional capability. The ASME Class 1 piping components are evaluated against ASME Section III to demonstrate that the components meet the allowables required by the ASME Code. The ASME Code is endorsed by 10 CFR 50.55a. The change allows the ASME Class 1 piping components to be evaluated by not only ASME Section III, NB-3600, but also, in situations where the simplified analysis results do not satisfy the requirements, ability is added for an evaluation using the more detailed method of ASME Section III, NB-3200. This is performed in accordance with ASME Section III, NB-3630(c). This method will continue to demonstrate that the piping components meet acceptance criteria and will perform as required in the design. The proposed change does not affect the operation of any systems or equipment that may initiate a new or different kind of accident, or alter an [structure, system, and component (SSC)] such that a new accident initiator or initiating sequence of events is created.

The change has no adverse effect on the design function of the ASME Class 1 piping components or the SSCs to which the piping is connected. The probabilities of accidents evaluated in the UFSAR are not affected.

The change does not impact the support, design, or operation of mechanical and fluid systems. The change does not impact the support, design, or operation of any safety-related structures. There is no change to plant systems or response of systems to postulated accident conditions. There is no change to the predicted radioactive releases due to normal operation or postulated accident conditions. The plant response to previously evaluated accidents or external events is not adversely affected, nor does the proposed change create any new accident precursors.

Therefore, the proposed amendment does not involve a significant increase in the probability or consequences of an accident previously evaluated.

2. Does the proposed amendment create the possibility of a new or different kind of accident from any accident previously evaluated?

Response: No.

The proposed change describes how the ASME Class 1 piping components are evaluated for stress and functional capability. The ASME Class 1 piping components are evaluated against ASME Section III to demonstrate that the components meet the allowables required by the ASME Code. The ASME Code is endorsed by 10 CFR 50.55a. The change allows the ASME Class 1 piping components to be evaluated by not only ASME Section III, NB-3600, but also, in situations where the simplified analysis results do not satisfy the requirements, ability is added for an evaluation using the more detailed method of ASME Section III, NB-3200. This is performed in accordance with ASME Section III, NB-3630(c). This method will continue to demonstrate that the piping components meet acceptance criteria and will perform as required in the design.

The proposed change does not adversely affect the design function of the ASME Class 1 piping components, the structures and systems in which the piping components are used, or any other SSC design functions or methods of operation in a manner that results in a new failure mode, malfunction, or sequence of events that affect safety-related or non-safety related equipment. This activity does not allow for a new fission product release path, result in a new fission product barrier failure mode, or create a new sequence of events that result in significant fuel cladding failures.

Therefore, the proposed amendment does not create the possibility of a new or different kind of accident from any accident previously evaluated.

3. Does the proposed amendment involve a significant reduction in a margin of safety?

Response: No.

The proposed change describes how the ASME Class 1 piping components are evaluated for stress and functional capability. The ASME Class 1 piping components are evaluated against ASME Section III to demonstrate that the components meet the allowables required by the ASME Code. The ASME Code is endorsed by 10 CFR 50.55a. The change allows the ASME Class 1 piping components to be evaluated by not only ASME Section III, NB-3600, but also, in situations where the simplified analysis results do not satisfy the requirements, ability is added for an evaluation using the more detailed method of ASME Section III, NB-3200. This is performed in accordance with ASME Section III, NB-3630(c). This method will continue to demonstrate that the piping components meet acceptance criteria and will perform as required in the design.

Because no safety analysis or design basis acceptance limit/criterion is challenged or exceeded by this change, no significant margin of safety is reduced.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Jennifer Dixon-Herrity

Southern Nuclear Operating Company, Inc., Docket Nos. 52-025 and 52-026, Vogtle Electric Generating Plant (VEGP) Units 3 and 4, Burke County, Georgia

Date of amendment request: September 8, 2017. A publicly-available version is in ADAMS under Accession No. ML17251A458.

Description of amendment request: The requested amendment requires changes to the Updated Final Safety Analysis Report (UFSAR) in the form of departures from the plant-specific Design Control Document Tier 2 information and involves changes to the VEGP Units 3 and 4 combined license (COL) Appendix A, Technical Specifications. Specifically, the proposed amendment would revise the licensing basis information for the design of the protection and safety monitoring system (PMS) automatic reactor trips and the crediting of PMS automatic reactor trips necessary to prevent exceeding fuel design limits including the power range high neutron flux (high setpoint), the power range high positive flux rate trip, the overpower ΔT trip, and the overtemperature ΔT trip. Also, includes changes to the COL Appendix A Technical Specifications for maintaining moderator temperature coefficient and maintaining power distributions within the required absolute power generation limits.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes do not adversely affect the operation of any systems or equipment that initiate an analyzed accident or alter any structures, systems, and components (SSCs) accident initiator or initiating sequence of events. The proposed changes do not adversely affect the ability of the PMS automatic reactor trips to perform the required safety function to trip the reactor when necessary to protect fuel design limits, and do not adversely affect the probability of inadvertent operation or failure of the PMS automatic reactor trips. The proposed changes to the methods for maintaining moderator temperature coefficient within the required reactivity control limits and maintaining power generation within the required power distribution limits do not result in any increase in probability of an analyzed accident occurring, and prevent power oscillations and maintain the initial conditions and operating limits required by the accident analysis, and the analyses of normal operation and anticipated operational occurrences, so that fuel design limits are not exceeded for events resulting in positive reactivity insertion and reactivity feedback effects.

Therefore, the requested amendment does not involve a significant increase in the probability or consequences of an accident previously evaluated.

2. Does the proposed amendment create the possibility of a new or different kind of accident from any accident previously evaluated?

Response: No.

The proposed changes do not affect the operation of any systems or equipment that may initiate a new or different kind of accident, or alter any SSC such that a new accident initiator or initiating sequence of events is created. The proposed changes do not adversely affect the ability of the PMS automatic reactor trips to perform the required safety function to trip the reactor when necessary to protect fuel design limits, and do not adversely affect the probability of inadvertent operation or failure of the PMS automatic reactor trips. The proposed changes to the methods for maintaining moderator temperature coefficient within the required reactivity control limits and maintaining power generation within the required power distribution limits do not result in the possibility of an accident occurring, and prevent power oscillations and maintain the initial conditions and operating limits required by the accident analysis, and the analyses of normal operation and anticipated operational occurrences, so that fuel design limits are not exceeded for events resulting in positive reactivity insertion and reactivity feedback effects.

These proposed changes do not adversely affect any other SSC design functions or methods of operation in a manner that results in a new failure mode, malfunction, or sequence of events that affect safety-related or nonsafety-related equipment. Therefore, this activity does not allow for a new fission product release path, result in a new fission product barrier failure mode, or create a new sequence of events that results in significant fuel cladding failures.

Therefore, the requested amendment does not create the possibility of a new or different kind of accident from any accident previously evaluated.

3. Does the proposed amendment involve a significant reduction in a margin of safety?

Response: No.

The proposed changes maintain existing safety margins. The proposed changes to the PMS reactor trip system instrumentation, reactivity control systems, and power distribution limits maintain existing safety margin through continued application of the existing requirements of the UFSAR. The proposed changes maintain the initial conditions and operating limits required by the accident analysis, and the analyses of normal operation and anticipated operational occurrences, so that the existing fuel design limits specified in the UFSAR are not exceeded for events resulting in positive reactivity insertion and reactivity feedback effects. Therefore, the proposed changes satisfy the same safety functions in accordance with the same requirements as stated in the UFSAR. These changes do not adversely affect any design code, function, design analysis, safety analysis input or result, or design/safety margin. No safety analysis or design basis acceptance limit/criterion is challenged or exceeded by the proposed changes, and no margin of safety is reduced.

Therefore, the requested amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North Birmingham, AL 35203-2015.

NRC Branch Chief: Jennifer Dixon-Herrity.

Southern Nuclear Operating Company, Docket Nos. 52-025 and 52-026, Vogtle Electric Generating Plant, Units 3 and 4, Burke County, Georgia

Date of amendment request: August 31, 2017. A publicly-available version is in ADAMS under Accession No. ML17243A444.

Description of amendment request: The requested amendment proposes to depart from the approved AP1000 Design Control Document (DCD) by proposing changes to various plant-specific Tier 1 (and Combined License (COL) Appendix C) information and Tier 2 material contained within the Updated Final Safety Analysis Report (UFSAR) to modify design details of the containment recirculation cooling system (VCS) and the radiologically controlled area ventilation system (VAS). Specifically, if approved, the changes to the VCS address changes in total required design air flow rates and total design cooling and heating requirements as a result of the final design of the VCS, and the changes to the VAS add a fourth differential pressure instrument and alarm functions and reduce the fuel handling area ventilation subsystem design flow rate and would address the capability of the supply and exhaust duct isolation damper to close under specific conditions. Pursuant to the provisions of 10 CFR 52.63(b)(1), an exemption from elements of the design as certified in the 10 CFR part 52, Appendix D, design certification rule is also requested for the plant-specific DCD Tier 1 departures.

Basis for proposed no significant hazards consideration determination: As required by 10 CFR 50.91(a), the licensee has provided its analysis of the issue of no significant hazards consideration, which is presented below:

1. Does the proposed amendment involve a significant increase in the probability or consequences of an accident previously evaluated?

Response: No.

The design functions of the containment recirculation cooling system (VCS) include control of the air temperature and reduction of humidity in the containment to provide a suitable environment for equipment operability during normal power operation, and for personnel accessibility and equipment operability during refueling and shutdown. The proposed changes for the VCS address changes in total required design air flow rates and total design cooling and heating requirements, thereby maintaining these design functions.

The design functions of the radiologically controlled area ventilation system (VAS) include prevention of the unmonitored release of airborne radioactivity to the atmosphere or adjacent plant areas, by maintaining a negative pressure differential in radiologically controlled areas of the auxiliary building, maintaining occupied areas and access and equipment areas within their design temperature range, and providing outside air for plant personnel. The proposed changes for the VAS enable pressure differential monitoring and control for an area of the auxiliary building that is physically remote and separate from the currently monitored and controlled areas, and provide VAS supply air flow rate and total ventilation flow through the auxiliary building fuel handling area required to maintain occupied areas and access and equipment areas within their design temperature range and to provide outside air for plant personnel, maintaining these design functions.

The proposed changes do not affect the operation of any systems or equipment that initiate an analyzed accident or alter any structure, system, or component (SSC) accident initiator or initiating sequence of events. There are no inadvertent operations or failures of the VCS or VAS considered as accident initiators or part of an initiating sequence of events for an accident previously evaluated. Therefore, the probabilities of the accidents previously evaluated in the UFSAR are not affected.

These proposed changes to the VCS and VAS design as described in the current licensing basis do not have an adverse effect on any of the design functions of the systems. The proposed changes do not affect the support, design, or operation of mechanical and fluid systems required to mitigate the consequences of an accident. There is no change to plant systems or the response of systems to postulated accident conditions. There is no change to the predicted radioactive releases due to postulated accident conditions. The plant response to previously evaluated accidents or external events is not adversely affected, nor do the proposed changes create any new accident precursors. The proposed changes do not affect the prevention and mitigation of other abnormal events, e.g., anticipated operational occurrences, earthquakes, floods and turbine missiles, or their safety or design analyses. Therefore, the consequences of the accidents evaluated in the UFSAR are not affected.

Therefore, the proposed amendment does not involve a significant increase in the probability or consequences of an accident previously evaluated.

2. Does the proposed amendment create the possibility of a new or different kind of accident from any accident previously evaluated?

Response: No.

The proposed changes do not affect the operation of any systems or equipment that may initiate a new or different kind of accident, or alter any SSC such that a new accident initiator or initiating sequence of events is created. The proposed changes revise the VCS and VAS design as described in the current licensing basis to enable the systems to perform required design functions. These proposed changes do not adversely affect any other SSC design functions or methods of operation in a manner that results in a new failure mode, malfunction, or sequence of events that affect safety-related or nonsafety-related equipment. Therefore, this activity does not allow for a new fission product release path, result in a new fission product barrier failure mode, or create a new sequence of events resulting in significant fuel cladding failures.

Therefore, the proposed amendment does not create the possibility of a new or different kind of accident from any accident previously evaluated.

3. Does the proposed amendment involve a significant reduction in a margin of safety?

Response: No.

The proposed changes maintain existing safety margins. The proposed changes to the VCS and VAS do not affect any safety-related design function. These changes do not adversely affect any design code, function, design analysis, safety analysis input or result, or design/safety margin. No safety analysis or design basis acceptance limit/criterion is challenged by the proposed changes, and no margin of safety is reduced.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Jennifer Dixon-Herrity.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Arizona Public Service Company, et al., Docket Nos. STN 50-528, STN 50-529, and STN 50-530, Palo Verde Nuclear Generating Station, Units 1, 2, and 3, Maricopa County, Arizona

Date of amendment request: June 14, 2017.

Description of amendment request: The amendments modified the completion date for implementation of Milestone 8 of the Cyber Security Plan (CSP). The proposed amendments would extend the CSP Milestone 8 completion date from September 30, 2017, to December 31, 2017.

Date of issuance: September 27, 2017.

Effective date: As of the date of issuance and shall be implemented by September 30, 2017.

Amendment Nos.: Unit 1-204, Unit 2-204, and Unit 3-204. A publicly-available version is in ADAMS under Accession No. ML17254A499; documents related to these amendments are listed in the Safety Evaluation enclosed with the amendments.

Renewed Facility Operating License Nos. NPF-41, NPF-51, and NPF-74: The amendments revised the Operating Licenses.

Date of initial notice in Federal Register: July 18, 2017 (82 FR 32878).

The Commission's related evaluation of the amendments is contained in a Safety Evaluation dated September 27, 2017.

No significant hazards consideration comments received: No.

Duke Energy Carolinas, LLC, Docket Nos. 50-413 and 50-414, Catawba Nuclear Station, Units 1 and 2, York County, South Carolina

Date of amendment requests: December 15, 2016.

Brief description of amendments: The amendments modified Technical Specification (TS) 3.9.5, “Residual Heat Removal (RHR) and Coolant Circulation—Low Water Level,” to add Note 1 to the Limiting Condition for Operation (LCO) Section of TS 3.9.5 to allow the securing of the operating train of RHR for up to 15 minutes to support switching operating trains. The allowance is restricted to three conditions: (a) The core outlet temperature is maintained greater than 10 degrees Fahrenheit below saturation temperature; (b) no operations are permitted that would cause an introduction of coolant into the Reactor Coolant System (RCS) with boron concentration less than that required to meet the minimum required boron concentration of LCO 3.9.1; and (c) no draining operations to further reduce RCS water volume are permitted. Additionally, the amendments would modify the LCO Section of TS 3.9.5 to add Note 2 which would allow one required RHR loop to be inoperable for up to two hours for surveillance testing, provided that the other RHR loop is operable and in operation. These proposed changes are consistent with Technical Specification Task Force (TSTF) Travelers TSTF-349-A, Revision 1, “Add Note to LCO 3.9.5 Allowing Shutdown Cooling Loops Removal from Operation”, TSTF-361-A, Revision 2, “Allow standby [Shutdown Cooling] SDC/RHR/[Decay Heat Removal] DHR loop to be inoperable to support testing,” and TSTF-438-A, Revision 0, “Clarify Exception Notes to be Consistent with the Requirement Being Excepted.”

Date of issuance: September 29, 2017.

Effective date: These license amendments are effective as of its date of issuance and shall be implemented within 120 days of issuance.

Amendment Nos.: 293 (Unit 1) and 289 (Unit 2). A publicly-available version is in ADAMS under Accession No. ML17249A135; documents related to these amendments are listed in the Safety Evaluation enclosed with the amendments.

Renewed Facility Operating License Nos. NPF-35 and NPF-52: Amendments revised the renewed facility operating licenses and technical specifications.

Date of initial notice in Federal Register: April 25, 2017 (82 FR 19101).

The Commission's related evaluation of the amendments is contained in a Safety Evaluation dated September 29, 2017.

No significant hazards consideration comments received: No.

Duke Energy Progress, LLC, Docket No. 50-261, H.B. Robinson Steam Electric Plant, Unit No. 2, Darlington County, South Carolina

Date of amendment request: September 14, 2016.

Brief description of amendment: The amendment authorized the adoption of a revised alternative source term in the updated final safety analysis report to support the transition from an 18-month to a 24-month fuel cycle.

Date of issuance: September 29, 2017.

Effective date: As of the date of issuance and shall be implemented within 120 days of issuance.

Amendment No.: 255. A publicly-available version is in ADAMS under Accession No. ML17205A233; documents related to this amendment are listed in the Safety Evaluation enclosed with the amendment.

Renewed Facility Operating License No. DPR-23: Amendment revised the Renewed Facility Operating License.

Date of initial notice in Federal Register: November 22, 2016 (81 FR 83875).

The Commission's related evaluation of the amendment is contained in a Safety Evaluation dated September 29, 2017.

No significant hazards consideration comments received: No.

Renewed Facility Operating License No. DPR-51: Amendment revised the Operating License and Technical Specifications.

Date of initial notice in Federal Register: July 5, 2017 (82 FR 31092).

The Commission's related evaluation of the amendment is contained in a Safety Evaluation dated October 10, 2017.

No significant hazards consideration comments received: No.

Entergy Operations, Inc., System Energy Resources, Inc., South Mississippi Electric Power Association, and Entergy Mississippi, Inc., Docket No. 50-416, Grand Gulf Nuclear Station, Unit 1 (GGNS), Claiborne County, Mississippi

Date of application for amendment: March 29, 2017.

Brief description of amendment: The proposed amendment made an administrative change to the licensee name. Effective November 10, 2016, South Mississippi Electric Power Association changed its company name from “South Mississippi Electric Power Association” to “Cooperative Energy, a Mississippi electric cooperative.” The corporate name was changed for commercial reasons. The changes proposed herein to the GGNS operating license solely reflects the changed licensee name. This name change is purely administrative in nature. This request does not involve a transfer of control or of an interest in the license.

Date of issuance: October 4, 2017.

Effective date: As of the date of issuance and shall be implemented within 90 days of issuance.

Amendment No: 213. A publicly-available version is in ADAMS under Accession No. ML17240A232; documents related to this amendment are listed in the Safety Evaluation enclosed with the amendment.

Renewed Facility Operating License No. NPF-29: The amendment revised the Operating License.

Date of initial notice in Federal Register: May 23, 2017 (82 FR 23624).

The Commission's related evaluation of the amendment is contained in a Safety Evaluation dated October 4, 2017.

No significant hazards consideration comments received: No.

Exelon Generation Company, LLC, Docket No. 50-461, Clinton Power Station (CPS), Unit No. 1, DeWitt County, Illinois

Date of amendment request: January 25, 2016, as supplemented by letters dated. March 31, 2016, March 2, and June 1, 2017.

Brief description of amendment: The amendment revises the technical specification (TS) associated with the primary containment leakage rate testing program. Specifically, the amendment extend the frequencies for performance of the Type A containment integrated leakage rate test and the Type C containment isolation valve leakage rate test, which are required by 10 CFR part 50, Appendix J, “Primary Reactor Containment Leakage Testing for Water-Cooled Power Reactors.” The amendment also deletes the requirement in TS 5.5.13 to perform Type A testing by 2008.

Date of issuance: September 26, 2017.

Effective date: As of the date of issuance and shall be implemented within 30 days from the date of issuance.

Amendment No(s): 214. A publicly-available version is in ADAMS under Accession No. ML17237A010; documents related to this amendment are listed in the Safety Evaluation enclosed with the amendment.

Facility Operating License No. NPF-62: The amendment revised the Facility Operating License and Technical Specifications.

Date of initial notice in Federal Register: May 10, 2016 (81 FR 28895). The supplemental letters dated March 2, 2017, and June 1, 2017, provided additional information that clarified the application, did not expand the scope of the application as originally noticed, and did not change the staff's original proposed no significant hazards consideration determination as published in the Federal Register.

The Commission's related evaluation of the amendment is contained in a Safety Evaluation dated September 26, 2017.

No significant hazards consideration comments received: No.

Exelon Generation Company, LLC, Docket No. 50-333, James A. FitzPatrick Nuclear Power Plant, Oswego County, New York

Date of amendment request: December 8, 2016.

Brief description of amendment: The amendment revised the implementation date of Milestone 8 of the Cyber Security Plan from December 15, 2017, to June 15, 2019.

Date of issuance: September 29, 2017.

Effective date: As of the date of issuance, and shall be implemented within 30 days.

Amendment No.: 316. A publicly-available version is in ADAMS under Accession No. ML17235A540; documents related to this amendment are listed in the Safety Evaluation enclosed with the amendment.

Renewed Facility Operating License No. DPR-59: The amendment revised the Renewed Facility Operating License.

Date of initial notice in Federal Register: January 31, 2017 (82 FR 8869).

The Commission's related evaluation of the amendment is contained in a Safety Evaluation dated September 29, 2017.

No significant hazards consideration comments received: No.

Exelon Generation Company, LLC, Docket No. 50-289, Three Mile Island Nuclear Station, Unit 1, Dauphin County, Pennsylvania

Date of amendment request: March 22, 2017.

Brief description of amendment: The amendment (1) updated Technical Specification (TS) 5.4.2 for the current number of fuel assemblies and number of reactor cores that are stored in Spent Fuel Pool A; (2) revised TS 6.1.2 requirements for the Chief Nuclear Officer to eliminate the annual management directive to all unit personnel responsible for the control room command function; and (3) deleted the TS 6.2.2.2.d footnote that references Control Room Supervisors who do not possess a Senior Reactor Operator NRC License.

Date of issuance: October 5, 2017.

Effective date: As of the date of issuance and shall be implemented within 60 days.

Amendment No.: 293. A publicly-available version is in ADAMS under Accession No. ML17233A138; documents related to this amendment are listed in the Safety Evaluation enclosed with the amendment.

Renewed Facility Operating License No. DPR-50: Amendment revised the Facility Operating License and Technical Specifications.

Date of initial notice in Federal Register: August 1, 2017 (82 FR 35840).

The Commission's related evaluation of the amendment is contained in a Safety Evaluation dated October 5, 2017.

No significant hazards consideration comments received: No.

Florida Power & Light Company, et al., Docket Nos. 50-335 and 50-389, St. Lucie Plant, Unit Nos. 1 and 2, St. Lucie County, Florida

Date of amendment request: December 22, 2016.

Brief description of amendments: The amendments updated the St. Lucie Plant, Unit No. 1, and St. Lucie Plant, Unit No. 2, Technical Specifications (TSs) to relocate the Component Cyclic or Transient Limits Program requirements to the Administrative Controls sections of the TSs. The amendments also deleted the Component Cyclic or Transient Limits TS tables, which detail the allowable transient limits, and will place these tables in licensee-controlled documents.

Date of issuance: October 5, 2017.

Effective date: As of the date of issuance and shall be implemented within 90 days of issuance.

Amendment Nos.: 241 and 192. A publicly available version is in ADAMS under Accession No. ML17235A565; documents related to this amendment are listed in the Safety Evaluation enclosed with the amendments.

Renewed Facility Operating License Nos. DPR-67 and NPF-16: Amendments revised the Renewed Facility Operating Licenses and TSs.

Date of initial notice in Federal Register: February 28, 2017 (82 FR 12133).

The Commission's related evaluation of the amendment is contained in a Safety Evaluation dated October 5, 2017.

No significant hazards consideration comments received: No.

Florida Power & Light Company, Docket Nos. 50-250 and 50-251, Turkey Point Nuclear Generating Unit Nos. 3 and 4, Miami-Dade County, Florida

Date of amendment request: December 21, 2016, as supplemented by letter dated May 18, 2017.

Brief description of amendments: The amendments revised the Technical Specifications for the Engineered Safety Features Actuation System instrumentation. The amendments modified the completion times for required actions for inoperable instrumentation channels for auxiliary feedwater actuation on bus stripping and on trip of all main feedwater pump breakers.

Date of issuance: September 28, 2017.

Effective date: As of the date of issuance and shall be implemented within 90 days of issuance.

Amendment Nos: 276 and 271. A publicly-available version is in ADAMS under Accession No. ML17209A319. Documents related to these amendments are listed in the Safety Evaluation enclosed with the amendments.

Renewed Facility Operating License Nos. DPR-31 and DPR-41: Amendments revised the Renewed Facility Operating Licenses and TSs.

Date of initial notice in Federal Register: March 14, 2017 (82 FR 13666). The supplemental letter dated May 18, 2017, provided additional information that clarified the application, did not expand the scope of the application as originally noticed, and did not change the staff's original proposed no significant hazards consideration determination as published in the Federal Register.

The Commission's related evaluation of the amendments is contained in a safety evaluation dated September 28, 2017.

No significant hazards consideration comments received: No.

South Carolina Electric & Gas Company, South Carolina Public Service Authority, Docket No. 50-395, Virgil C. Summer Nuclear Station, Unit No. 1, (VCSNS) Fairfield County, South Carolina

Date of amendment request: December 16, 2015, as supplemented by letters dated March 7, 2016, February 6, 2017, June 22, 2017, July 6, 2017, and September 27, 2017.

Brief description of amendment: This amendment revises Technical Specification (TS) ¾.3.1, “Reactor Trip System Instrumentation,” and TS ¾.3.2, “Engineered Safety Feature Actuation System Instrumentation,” to implement the Allowed Outage Time, Bypass Test Time, and Surveillance Frequency changes approved by the NRC in WCAP-15376-P-A, Rev. 1, “Risk-Informed Assessment of the Reactor Trip System (RTS) and Engineered Safety Features Actuation System (ESFAS) Surveillance Test Intervals and Reactor Trip Breaker Test and Completion Times.”

Date of issuance: October 4, 2017.

Effective date: As of the date of issuance and shall be implemented within 60 days of issuance.

Amendment No.: 209. A publicly-available version is in ADAMS under Accession No. ML17206A412, documents related to this amendment are listed in the Safety Evaluation enclosed with the amendment.

Renewed Facility Operating License No. NPF-12: Amendment revised the Renewed Facility Operating License and the Technical Specifications.

Date of initial notice in Federal Register: April 12, 2016 (81 FR 21601). The supplemental letters dated March 7, 2016, February 6, 2017, June 22, 2017, July 6, 2017, and September 27, 2017, provided additional information that clarified the application, did not expand the scope of the application as originally noticed, and did not change the staff's original proposed no significant hazards consideration determination as published in the Federal Register.

The Commission's related evaluation of the amendment is contained in a Safety Evaluation dated October 4, 2017.

No significant hazards consideration comments received: No.

Southern Nuclear Operating Company, Inc., Docket Nos. 50-348 and 50-364, Joseph M. Farley Nuclear Plant (Farley), Units 1 and 2, Houston County, Alabama

Southern Nuclear Operating Company, Inc., Docket Nos. 50-424 and 50-425, Vogtle Electric Generating Plant (VEGP), Units 1 and 2, Burke County, Georgia

Date of amendment request: November 21, 2016.

Brief description of amendments: The amendments revise the requirements on control and shutdown rods, and rod and bank position indication in Technical Specifications (TS) 3.1.4, “Rod Group Alignment Limits,” TS 3.1.5, “Shutdown Bank Insertion Limits,” TS 3.1.6, “Control Bank Insertion Limits,” and TS 3.1.7, “Rod Position Indication” consistent with Nuclear Regulatory Commission (NRC) approved Technical Specification Task Force Traveler (TSTF)-547, Revision 1, “Clarification of Rod Position Requirements” dated March 4, 2016.

Date of issuance: October 2, 2017.

Effective date: As of its date of issuance and shall be implemented within 90 days from the date of issuance.

Amendment Nos.: Farley Unit 1—214, Farley Unit 2—211, VEGP Unit 1—193, VEGP Unit 2—176. A publicly-available version is in ADAMS under Accession No. ML17214A546; documents related to these amendments are listed in the Safety Evaluation enclosed with the amendments.

Renewed Facility Operating License Nos. NPF-2, NPF-8, NPF-68, and NPF-81: The amendments revised the Renewed Facility Operating Licenses and TSs.

Date of initial notice in Federal Register: January 31, 2017 (82 FR 8872).

The Commission's related evaluation of the amendments is contained in a Safety Evaluation dated October 2, 2017.

No significant hazards consideration comments received: No.

Tennessee Valley Authority, Docket Nos. 50-259, 50-260, and 50-296, Browns Ferry Nuclear Plant, Units 1, 2, and 3 (BFN), Limestone County, Alabama

Tennessee Valley Authority, Docket Nos. 50-390 and 50-391, Watts Bar Nuclear Plant, Units 1 and 2 (WBN), Rhea County, Tennessee

Date of amendment request: April 5, 2017.

Brief description of amendment: The amendments revised technical specification surveillance requirements (SRs) that required operating ventilation systems with charcoal filters for 10 hours each month. Specifically, BFN SRs 3.6.4.3.1 and 3.7.3.1, and WBN SRs 3.6.9.1 and 3.7.12.1 are revised, consistent with NRC-approved Technical Specification Task Force (TSTF) Traveler TSTF-522, Revision 0, “Revise Ventilation System Surveillance Requirements to Operate for 10 hours per Month,” to require operation of the systems for 15 continuous minutes every 31 days.

Date of issuance: October 2, 2017.

Effective date: As of the date of issuance and shall be implemented within 30 days of issuance.

Amendment Nos.: 300 (Unit 1), 324 (Unit 2), and 284 (Unit 3) for BFN; and 115 (Unit 1) and 15 (Unit 2) for WBN. A publicly-available version is in ADAMS under Accession No. ML17215A243; documents related to these amendments are listed in the Safety Evaluations enclosed with the amendments.

Renewed Facility Operating License (RFOL) Nos. DPR-33, DPR-52, and DPR-68 for BFN; and Facility Operating License (FOL) Nos. NPF-90 and NPF-96 for WBN: Amendments revised the RFOLs and FOLs and technical specifications.

Date of initial notice in Federal Register: June 6, 2017 (82 FR 26139).

The Commission's related evaluations of the amendments are contained in Safety Evaluations dated October 2, 2017.

No significant hazards consideration comments received: No.

Dated at Rockville, Maryland, this 16th day of October 2017.
For the Nuclear Regulatory Commission.
Eric J. Benner,
Deputy Director, Division of Operating Reactor Licensing, Office of Nuclear Reactor Regulation.

[FR Doc. 2017-22680 Filed 10-23-17; 8:45 am]

BILLING CODE 7590-01-P